Proclamation 8731 of October 6, 2011

German-American Day, 2011

By the President of the United States of America

A Proclamation

As a Nation of immigrants, America has been shaped and strengthened by the millions who have come to our shores seeking a better future. German men and women were among the first to have made the perilous journey across the Atlantic to seize the promise of the American dream. The same spirit that guided intrepid settlers to help establish Jamestown, Virginia, and found Germantown, Pennsylvania, is reflected in the indelible contributions to our common culture that we celebrate today.

Today, nearly one quarter of all Americans trace their ancestry to Germany, and many familiar American traditions—from Christmas trees to kindergarten—have German origins. German descendants have fundamentally and positively shaped the course of American history. From the wheels of labor and the fields of sport, to the halls of power and throughout our society, generations of German Americans have helped make America what it is today.

The bonds of friendship and trust between the United States and Germany continue to enrich both our nations. Our partnership is more important than ever, and it remains indispensable to global security and prosperity. As we observe German-American Day, we celebrate how far we have come together and remember the lasting legacy that past pioneers have bestowed onto us.

NOW, THEREFORE, I, BARACK OBAMA, President of the United States of America, by virtue of the authority vested in me by the Constitution and the laws of the United States, do hereby proclaim October 6, 2011, as German-American Day. I encourage all Americans to learn more about the history of German Americans and to commemorate the many contributions they have made to our Nation.

IN WITNESS WHEREOF, I have hereunto set my hand this sixth day of October, in the year of our Lord two thousand eleven, and of the Independence of the United States of America the two hundred and thirty-sixth.

[FR Doc. 2011-26559

Filed 10-11-11; 11:15 am]

Billing code 3295-F2-P